DEPARTMENT OF THE INTERIOR

National Park Service

[NPS-WASO-NAGPRA-NPS0036494; PPWOCRADN0-PCU00RP14.R50000]

Notice of Intent To Repatriate Cultural Items: HISTORY Fort Lauderdale, Fort Lauderdale, FL

AGENCY: National Park Service, Interior.

ACTION: Notice.

SUMMARY: In accordance with the Native American Graves Protection and Repatriation Act (NAGPRA), HISTORY Fort Lauderdale intends to repatriate a certain cultural item that meets the definition of an object of cultural patrimony and that has a cultural affiliation with the Indian Tribes or Native Hawaiian organizations in this notice. The cultural item was removed from the Great Lakes Region.

DATES: Repatriation of the cultural item in this notice may occur on or after October 2, 2023.

ADDRESSES: Tara Chadwick, HISTORY Fort Lauderdale, 219 SW 2nd Avenue, Fort Lauderdale, FL 33301, email tchadwick@flhc.org.

SUPPLEMENTARY INFORMATION: This notice is published as part of the National Park Service's administrative responsibilities under NAGPRA. The determinations in this notice are the sole responsibility of HISTORY Fort Lauderdale. The National Park Service is not responsible for the determinations in this notice. Additional information on the determinations in this notice, including the results of consultation, can be found in the summary or related records held by HISTORY Fort Lauderdale.

Description

In 1969, a beaded belt with yarn ties was donated to the Fort Lauderdale Historical Society (HISTORY Fort Lauderdale) by Fulton Wells, who stated that the item had been gifted by “Connecticut Indians” to his father, Phillip Wells. After consulting with Indian Tribes in Connecticut and subject matter experts, HISTORY Fort Lauderdale has determined that this item (accession X-281) most likely is associated with the Great Lakes area and not Connecticut. Based on information provided by the Ho-Chunk Nation of Wisconsin, HISTORY Fort Lauderdale also has determined that the beaded panel belt meets the definition of an object of cultural patrimony.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: geographical, historical, oral traditional, and expert opinion.

Determinations

Pursuant to NAGPRA and its implementing regulations, and after consultation with the appropriate Indian Tribes and Native Hawaiian organizations, HISTORY Fort Lauderdale has determined that:

• The one cultural item described above have ongoing historical, traditional, or cultural importance central to the Native American group or culture itself, rather than property owned by an individual.

• There is a relationship of shared group identity that can be reasonably traced between the cultural item and the Ho-Chunk Nation of Wisconsin.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 2, 2023. If competing requests for repatriation are received, HISTORY Fort Lauderdale must determine the most appropriate requestor prior to repatriation. Requests for joint repatriation of the cultural item is considered a single request and not competing requests. HISTORY Fort Lauderdale is responsible for sending a copy of this notice to the Indian Tribe identified in this notice.

Authority: Native American Graves Protection and Repatriation Act, 25 U.S.C. 3003, and the implementing regulations, 43 CFR 10.8, 10.10, and 10.14.

Dated: August 23, 2023.
Melanie O'Brien,
Manager, National NAGPRA Program.

[FR Doc. 2023-18822 Filed 8-30-23; 8:45 am]

BILLING CODE 4312-52-P